DEPARTMENT OF COMMERCE

National Oceanic and Atmospheric Administration

Agency Information Collection Activities; Submission to the Office of Management and Budget (OMB) for Review and Approval; Comment Request; Coral Reef Conservation Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 30, 2024, during a 60-day comment period. This notice allows for an additional 30 days for public comments.

Agency: National Oceanic and Atmospheric Administration, Commerce.

Title: Coral Reef Conservation Program.

OMB Control Number: 0648-0448.

Form Number(s): None.

Type of Request: Revision of a current information collection.

Number of Respondents: 49.

Average Hours per Response: 13.7.

Total Annual Burden Hours: 1004.

Needs and Uses: This request is for revision to an approved collection of information and new information collection under the Paperwork Reduction Act, 44 U.S.C. 3501 et seq., and implementing regulations at 5 CFR part 1320. The Coral Reef Conservation Act of 2000, 16 U.S.C. 6401 et seq., has been amended since the last approval and the revised requirements for information collection are outlined below.

The Coral Reef Conservation Act was enacted to conserve and restore the condition of United States coral reef ecosystems challenged by natural and human-accelerated changes; to promote the science-based management and sustainable use of coral reef ecosystems to benefit local communities and the Nation; to develop sound scientific information on the condition of coral reef ecosystems, continuing and emerging threats to such ecosystems, and the efficacy of innovative tools, technologies, and strategies to mitigate stressors and restore such ecosystems; to assist in the preservation of coral reefs by supporting science-based, consensus-driven, and community-based coral reef management by covered States (Florida, Hawaii, and the territories of American Samoa, the Commonwealth of the Northern Mariana Islands, Guam, Puerto Rico, and the United States Virgin Islands) and covered Native entities (an Indian Tribe, the Department of Hawaiian Home Lands, the Office of Hawaiian Affairs, or a Native Hawaiian organization with interests in a coral reef ecosystem); to provide financial resources, technical assistance, and scientific expertise to supplement, complement, and strengthen community-based management programs and conservation and restoration projects of non-Federal reefs; to establish a formal mechanism for collecting and allocating monetary donations from the private sector to be used for coral reef conservation and restoration projects; to support rapid, effective, and science-based assessment and response to exigent circumstances that pose immediate and long-term threats to coral reefs; and to serve as a model for advancing similar international efforts to monitor, conserve, and restore coral reef ecosystems.

Under section 6406 of the Act (Block Grants), covered States are responsible for documenting and reporting the State's use of Federal funds received under the Act; and expenditures of non-Federal funds made in furtherance of coral reef management and restoration as the NOAA Administrator (Administrator) deems appropriate. The Administrator is responsible for providing guidance on the proper documentation of expenditures.

Under section 6410 of the Act (Ruth D. Gates Coral Reef Conservation Grant Program), the NOAA Administrator, and subject to the availability of appropriations, is authorized to provide up to $3,500,000 annually (per section 6414(c)) in grants for coral reef conservation projects.

Under section 6405 of the Act, Federal agencies, covered State or County resource management agencies, and/or covered Native entities may form and chair stewardship partnerships to further community-based stewardship of coral reefs. The NOAA Administrator is responsible for identifying ecologically significant coral reef units that stewardship partnerships may be focused on and adjudicating multiple applicants for stewardship of the same of overlapping reef units to ensure no geographic overlap in representation among stewardship partnerships.

The match waiver requests and request for written comments are being removed from this collection as they are no longer applicable. The match waiver requests may still be made under Ruth D. Gates but are not expected and not requested of applicants. They were included in the original because all territories (5) requested a match waiver, however, their awards are now located in Block Grants, and there is no matching requirement. The Ruth D. Gates application process now requires “evidence of support for the project by appropriate representatives of States . . . in which the project will be conducted” on the front end.

Additionally, the Performance Progress Report (PPR) from collection 0648-0718 is being added to this collection so that all program requirements are under a single control number. The PPR will be removed from 0648-0718 at the next renewal period.

Affected Public: Business or other for-profit organizations; nonprofit, nongovernmental, and not-for-profit institutions; state or local government; institutions of higher education; and regional fishery management councils established under the Magnuson-Stevens Fishery Conservation and Management Act (16 U.S.C. 1801 et seq.).

Frequency: Annually.

Respondent's Obligation: Required to obtain or retain benefits for grant-related collections, or voluntary for coral reef stewardship partnership submissions.

Legal Authority: The Coral Reef Conservation Act of 2000, 16 U.S.C. 6401 et seq.,

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0448.

Sheleen Dumas,
Department PRA Clearance Officer, Office of the Under Secretary for Economic Affairs, Commerce Department.

[FR Doc. 2024-18385 Filed 8-15-24; 8:45 am]

BILLING CODE 3510-08-P